ENVIRONMENTAL PROTECTION AGENCY

40 CFR Part 60

[AD-FRL-6859-5]

RIN 2060-AG31

Standards of Performance for New Stationary Sources and Emission Guidelines for Existing Sources for Commercial and Industrial Solid Waste Incineration Units

AGENCY: Environmental Protection Agency (EPA).

ACTION: Notice of data availability.

SUMMARY: This notice announces the availability of additional data which supplement the database of emissions test reports used in developing the final regulations for commercial and industrial solid waste incineration (CISWI) units. We plan to issue the final regulations by November 15, 2000. However, as we move toward finalization of that rulemaking, we will continue to evaluate the completeness of the rulemaking docket and may periodically add additional material relevant to the development of the final regulations (including, for example, additional data regarding the characteristics of the incineration units considered in that rulemaking and/or the emissions of pollutants from such units).

ADDRESSES: Docket No. A-94-63 contains the supporting information for development of performance standards and emission guidelines for CISWI units and is available for public inspection and copying between 8 a.m. and 5:30 p.m., Monday through Friday, at the Air and Radiation Docket and Information Center, U.S. Environmental Protection Agency, 401 M Street, SW., Washington, DC 20460, telephone (202) 260-7548, fax (202) 260-4000. The docket is available at the above address in Room M-1500, Waterside Mall (ground floor, central mall). A reasonable fee may be charged for copying.

FOR FURTHER INFORMATION CONTACT: Mr. Fred Porter, Combustion Group, Emission Standards Division (MD-13), U.S. EPA, Research Triangle Park, North Carolina 27711, (919) 541-5251, e-mail porter.fred@epa.gov.

SUPPLEMENTARY INFORMATION: On November 30, 1999, we published proposed regulations to limit air pollution emissions from CISWI units (64 FR 67092). In the 1999 proposal, we asked for comment on the proposed emissions limitations for certain pollutants because of the limited amount of data available for some pollutants in the source category.

Commenters stated that because the emissions test data upon which several of the emissions limitations were based at proposal were extremely limited, the proposed limitations were not representative of actual CISWI unit performance. Several of the commenters suggested that we consider expanding the CISWI emissions database by adding emissions data from rulemakings which establish standards for sources that use similar emissions control technologies under comparable operating conditions. We have considered the comments and believe that it is appropriate under the circumstances to consider certain emissions test data from sources outside the CISWI category in order to help us better evaluate the actual performance of CISWI units using similar control technology. Specifically, because for three pollutants—dioxins/furans, mercury, and hydrogen chloride—only one or two CISWI emissions tests are available, we have decided not to rely only on those emissions tests to determine the emissions limitations for those three pollutants.

Instead, we intend to supplement the limited data for dioxins/furans, mercury, and hydrogen chloride emissions from CISWI units controlled by wet scrubbing systems with emissions data from similarly controlled units outside of the CISWI category. That approach will allow us to better characterize the actual dioxins/furans, mercury, and hydrogen chloride emissions limitations achieved by units in the CISWI category by providing additional information regarding the performance of wet scrubbers under conditions similar to those experienced by CISWI units.

Hazardous waste incinerator (HWI) units without waste heat boilers that are controlled with wet scrubbing systems serve as a valuable source of supplementary data for emissions of dioxins/furans (waste heat boilers on HWI can result in increased dioxins/furans emissions that are not representative of dioxins/furans emissions from CISWI units). Those types of HWI units are generally similar to CISWI units that are controlled by wet scrubbing systems. Thus, it is reasonable to conclude that the emissions performance of HWI units without waste heat boilers controlled with wet scrubbing systems is comparable to that of CISWI units controlled with wet scrubbing systems. Accordingly, we intend to combine the dioxins/furans emissions data from HWI units that do not use waste heat recovery boilers and that are controlled with wet scrubbing systems with the dioxins/furans emission data from CISWI units controlled with wet scrubbing systems to estimate the dioxins/furans emissions limitations achieved by units in the CISWI category.

Unfortunately, with respect to the other two pollutants (mercury and hydrogen chloride) for which CISWI test data are extremely limited, it is inappropriate to use emissions data from HWI units to supplement the CISWI unit data. The mercury and hydrogen chloride emissions data available from HWI units are based on the use of a different emission control technology than wet scrubbing systems. That fact prevents us from combining mercury and hydrogen chloride emissions data from HWI units with that from CISWI units. Since appropriate HWI data were not available, we considered other possible sources of data to augment mercury and hydrogen chloride emissions data from CISWI units controlled by wet scrubbing systems, and concluded that hospital/medical/infectious waste incinerator (HMIWI) units controlled with wet scrubbing systems could serve as a valuable source of supplementary data for mercury and hydrogen chloride.

The HMIWI units are also generally similar to CISWI units that are controlled by wet scrubbing systems. Thus, it is reasonable to conclude that the mercury and hydrogen chloride emissions performance achieved by HMIWI units controlled with wet scrubbing systems is comparable to that of CISWI units controlled with wet scrubbing systems. Accordingly, we intend to combine the mercury and hydrogen chloride emissions data from HMIWI units controlled with wet scrubbing systems with the mercury and hydrogen chloride emissions data from CISWI units controlled with wet scrubbing systems to estimate the emissions limitations achieved by units in the CISWI category for those pollutants.

That process for augmenting the CISWI data with appropriate HWI or HMIWI data will result in dioxins/furans, mercury, and hydrogen chloride emissions limitations which more accurately represent the levels of such emissions limitations actually achieved by CISWI units employing wet scrubbing systems. That approach to developing the emissions limitations will provide a reasonable proxy for the actual performance of the best-performing CISWI units and is the most appropriate method, under the circumstances, for EPA to identify the emissions limitations that are achieved by such units.

While we believe that emissions data for dioxins/furans, mercury, and hydrogen chloride from the HWI and HMIWI categories are useful for augmenting the CISWI data where insufficient CISWI emission data are available, we do not believe that HWI, HMIWI, and CISWI units should generally be characterized as similar units for the purpose of determining emissions limitations for all pollutants for CISWI units.

The emissions data we intend to use from HWI and HMIWI units to develop the final emissions limitations for CISWI units are presented in Tables 1 and 2 of this document. Table 1 presents the dioxins/furans emissions data from HWI units without waste heat recovery boilers and controlled with wet scrubbing systems. The data were collected during the development of regulations for HWI units. The units of measure are nanograms toxic equivalent quantity per dry standard cubic meter (ng TEQ/dscm) based on 1989 international toxic equivalency factors. Table 2 presents the mercury and hydrogen chloride emissions data from HMIWI units with wet scrubbing systems. The data were collected during the development of regulations for HMIWI units. The units of measure for mercury are milligrams per dry standard cubic meter (mg/dscm), and the units of measure for hydrogen chloride are parts per million (ppm).

Table 1.—Wet Scrubber Dioxins/Furans Emissions Data from Hazardous Waste Incinerator Units Without Waste Heat Boilers
Facility ID | Dioxins/Furans Emissions (ng TEQ/dscm)
Rollins Environmental | 0.081
Ross | 0.057
Army Atoll | 0.050
DOD Johnson Atoll | 0.071
DOD Tooele | 0.004
DOD Tooele | 0.014
DOD Tooele | 0.002
Occidential | 0.066
Occidential | 0.035
Occidential | 0.027
Dow Chemical | 0.172
Dow Midland | 0.009
DOE | 0.015
Waste Tech | 0.244
Waste Tech | 0.130
Waste Tech | 0.033
Waste Tech | 0.052
Army Atoll | 0.070
American Cyanamid | 0.006
American Cyanamid | 0.006
Ciba | 0.015
DOD Tooele | 0.002
DOD Tooele | 0.036
DOD Tooele | 0.007
Chevron | 0.016
Chevron | 0.021
Chem Waste | 0.099
Chem Waste | 0.410
Chem Waste | 0.210
Chem Waste | 0.007
Chem Waste | 0.010
Chem Waste | 0.006
Chem Waste | 0.025
Rollins Deer Park | 0.004
Zeneca | 0.146
American Cyanamid | 0.010
Eastman Kodak | 0.240
DOD Tooele | 0.001

Table 2.—Wet Scrubber Hydrogen Chloride and Mercury Emissions Data from Hospital/Medical/Infectious Waste Incinerator Units
Facility ID | Hydrogen Chloride Emissions (ppm) | Mercury Emissions (mg/dscm)
Bayfront | 1.08 | No Data
Bethesda | No Data | 0.017
Boca 93 | 0.05 | 0.040
Boca 94 | 1.48 | No Data
Hershey | 9.33 | 0.106
JFK | 1.21 | 0.004
Mass General | No Data | 0.048
Memorial City | 3.61 | 0.301
Mercy | 0.05 | No Data
Norwalk | 3.04 | No Data
Rahway | 0.80 | 0.062
Stony Brook | 1.75 | 0.473
St Vincent | 3.60 | No Data
U Texas | 1.49 | No Data

Dated: August 22, 2000.
Robert Perciasepe,
Assistant Administrator for Air and Radiation.

[FR Doc. 00-21917 Filed 8-25-00; 8:45 am]

BILLING CODE 6560-50-P